DEPARTMENT OF TRANSPORTATION

Federal Aviation Administration

14 CFR Part 39

[Docket No. FAA-2020-0460; Product Identifier 2018-SW-078-AD; Amendment 39-21252; AD 2020-19-09]

RIN 2120-AA64

Airworthiness Directives; Leonardo S.p.A. Helicopters

AGENCY: Federal Aviation Administration (FAA), Department of Transportation (DOT).

ACTION: Final rule.

SUMMARY: The FAA is adopting a new airworthiness directive (AD) for all Leonardo S.p.A. Model AW169 helicopters and certain Leonardo S.p.A Model AW189 helicopters. This AD was prompted by a report of a broken extrusion rubber window seal. This AD requires installation of a reinforcement around the rubber filler wedge where the extrusion rubber window seal meets the door's emergency exit handle. The FAA is issuing this AD to address the unsafe condition on these products.

DATES: This AD is effective October 27, 2020.

The Director of the Federal Register approved the incorporation by reference of certain publications listed in this AD as of October 27, 2020.

ADDRESSES: For service information identified in this final rule, contact Leonardo S.p.A. Helicopters, Emanuele Bufano, Head of Airworthiness, Viale G. Agusta 520, 21017 C. Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177. For information on the availability of this material at the FAA, call 817-222-5110.

Examining the AD Docket

You may examine the AD docket on the internet at https://www.regulations.gov by searching for and locating Docket No. FAA-2020-0460; or in person at Docket Operations between 9 a.m. and 5 p.m., Monday through Friday, except Federal holidays. The AD docket contains this final rule, any comments received, and other information. The street address for Docket Operations is listed above.

FOR FURTHER INFORMATION CONTACT: Kristi Bradley, Aviation Safety Engineer, International Validation Branch, General Aviation & Rotorcraft Unit, FAA, 10101 Hillwood Pkwy., Fort Worth, TX 76177; telephone 817-222-5110; email kristin.bradley@faa.gov.

SUPPLEMENTARY INFORMATION:

Discussion

The FAA issued a notice of proposed rulemaking (NPRM) to amend 14 CFR part 39 by adding an AD that would apply to all Leonardo S.p.A. Model AW169 helicopters and certain Leonardo S.p.A. Model AW189 helicopters. The NPRM published in the Federal Register on June 3, 2020 (85 FR 34139). The NPRM was prompted by a report of a broken extrusion rubber window seal, part number (P/N) A417AF001WB. The NPRM proposed to require installation of a reinforcement around the rubber filler wedge where the extrusion rubber window seal meets the door's emergency exit handle. The FAA is issuing this AD to address broken extrusion rubber window seals, which could result in an excessive load required to release the emergency exit window, possibly resulting in delayed evacuation of helicopter occupants during an emergency.

The European Aviation Safety Agency (now European Union Aviation Safety Agency) (EASA), which is the Technical Agent for the Member States of the European Union, issued EASA AD 2018-0197, dated September 5, 2018 (referred to after this as the Mandatory Continuing Airworthiness Information, or “the MCAI”), to correct an unsafe condition for all Leonardo S.p.A. Model AW169 helicopters and certain Leonardo S.p.A. Model AW189 helicopters. EASA advises of a broken extrusion rubber window seal, P/N A417AF001WB. According to EASA, an investigation determined that the damage to the rubber filler wedge of the rubber window seal could have been caused by the excessive tension of the string applied during the installation of an affected emergency exit handle. EASA advises that this condition, if not corrected, could result in an excessive load to release the emergency exit window, possibly resulting in delayed evacuation of helicopter occupants during an emergency. EASA states that, due to design similarities, the same unsafe condition could exist or develop on certain Model AW189 helicopters. To correct this condition, EASA AD 2018-0197 requires installation of a reinforcement around the rubber filler wedge where the extrusion rubber window seal meets the door's emergency exit handle. You may examine the MCAI in the AD docket on the internet at https://www.regulations.gov by searching for and locating Docket No. FAA-2020-0460.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Leonardo Helicopters has issued Alert Service Bulletin 169-094, Revision A, dated August 13, 2018; and Alert Service Bulletin 189-170, dated July 25, 2018. This service information describes procedures for installation of a reinforcement around the rubber filler wedge where the extrusion rubber window seal meets the door's emergency exit handle. These documents are distinct since they apply to different aircraft models. This service information is reasonably available because the interested parties have access to it through their normal course of business or by the means identified in the ADDRESSES section.

Costs of Compliance

The FAA estimates that this AD affects 10 helicopters of U.S. registry. The FAA estimates the following costs to comply with this AD:

Estimated Costs for Required Actions
Labor cost | Parts cost | Cost per product | Cost on U.S. operators
Up to 6 work-hours × $85 per hour = Up to $510 | $0 | Up to $510 | Up to $5,100.

According to the manufacturer, some or all of the costs of this AD may be covered under warranty, thereby reducing the cost impact on affected individuals. The FAA does not control warranty coverage for affected individuals. As a result, the FAA has included all known costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-19-09 Leonardo S.p.A.: Amendment 39-21252; Docket No. FAA-2020-0460; Product Identifier 2018-SW-078-AD.

(a) Effective Date

This AD is effective October 27, 2020.

(b) Affected ADs

None.

(c) Applicability

This AD applies to the Leonardo S.p.A. helicopters identified in paragraphs (c)(1) and (2) of this AD, certificated in any category, equipped with an affected part defined as internal emergency exit handle, part number (P/N) 8G9500L00151, and external emergency exit handle, P/N 8G9500L00251.

(1) Model AW169 helicopters, all serial numbers.

(2) Model AW189 helicopters, all serial numbers, except those helicopters with emergency exit windows equipped with strap P/N A487A003A, or helicopters with bubble windows P/N 8G5620F00112.

(d) Subject

Joint Aircraft Service Component (JASC) Code 5600, Window/windshield system.

(e) Reason

This AD was prompted by a report of a broken extrusion rubber window seal; an investigation found the likely cause was excessive tension of the string applied during the installation of an affected emergency exit handle. The FAA is issuing this AD to address this condition, which, if not addressed, could result in an excessive load required to release the emergency exit window, possibly resulting in delayed evacuation of helicopter occupants during an emergency.

(f) Compliance

Comply with this AD within the compliance times specified, unless already done.

(g) Modification

(1) For Leonardo S.p.A. Model AW169 helicopters equipped with a passenger sliding door configuration, cabin main assembly P/N 6F5330A00131 or P/N 6F5330A00132: Within 750 hours time-in-service (TIS) or 24 months, whichever occurs first after the effective date of this AD, install the retro-modification P/N 6F5600P00111 on the rubber filler wedge of all affected emergency exit handles, in accordance with Part I, Steps 1 through 8 of the Accomplishment Instructions of Leonardo Helicopters Alert Service Bulletin 169-094, Revision A, dated August 13, 2018, except you are required to replace the affected emergency exit handles and are not required to discard the filler wedges.

(2) For Leonardo S.p.A. Model AW169 helicopters equipped with a passenger hinged door configuration, cabin main assembly VIP P/N 6F5330A00831: Within 750 hours TIS or 24 months, whichever occurs first after the effective date of this AD, install the retro-modification P/N 6F5600P00111 on the rubber filler wedge of all affected emergency exit handles, in accordance with Part II, Steps 1 through 6 of the Accomplishment Instructions of Leonardo Helicopters Alert Service Bulletin 169-094, Revision A, dated August 13, 2018, except you are required to replace the affected emergency exit handles and are not required to discard the filler wedges.

(3) For Leonardo S.p.A. Model AW189 helicopters: Within 750 hours TIS or 24 months, whichever occurs first after the effective date of this AD, install the retro-modification P/N 8G5600P00211 on the rubber filler wedge of all affected emergency exit handles, in accordance with Steps 1 through 11 of the Accomplishment Instructions of Leonardo Helicopters Alert Service Bulletin 189-170, dated July 25, 2018, except you are required to replace the affected emergency exit handles and are not required to discard the filler wedges.

(h) Alternative Methods of Compliance (AMOCs)

(1) The Manager, International Validation Branch, FAA, may approve AMOCs for this AD. Send your proposal to: Kristi Bradley, Aviation Safety Engineer, International Validation Branch, General Aviation & Rotorcraft Unit, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(i) Related Information

(1) The subject of this AD is addressed in European Aviation Safety Agency (now European Union Aviation Safety Agency) (EASA) AD 2018-0197, dated September 5, 2018. This EASA AD may be found in the AD docket on the internet at https://www.regulations.gov by searching for and locating Docket No. FAA-2020-0460.

(2) For more information about this AD, contact Kristi Bradley, Aviation Safety Engineer, International Validation Branch, General Aviation & Rotorcraft Unit, FAA, 10101 Hillwood Pkwy., Fort Worth, TX 76177; telephone 817-222-5110; email kristin.bradley@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Leonardo Helicopters Alert Service Bulletin 169-094, Revision A, dated August 13, 2018.

(ii) Leonardo Helicopters Alert Service Bulletin 189-170, dated July 25, 2018.

(3) For service information identified in this AD, contact Leonardo S.p.A. Helicopters, Emanuele Bufano, Head of Airworthiness, Viale G. Agusta 520, 21017 C. Costa di Samarate (Va) Italy; telephone +39-0331-225074; fax +39-0331-229046; or at https://www.leonardocompany.com/en/home.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on September 9, 2020.
Lance T. Gant,
Director, Compliance & Airworthiness Division, Aircraft Certification Service.

[FR Doc. 2020-20764 Filed 9-21-20; 8:45 am]

BILLING CODE 4910-13-P